DEPARTMENT OF ENERGY

Office of Fossil Energy; Coal Policy Committee of the National Coal Council

AGENCY: Department of Energy

ACTION: Notice of open meeting.

SUMMARY: This notice announces a meeting of the Coal Policy Committee of the National Coal Council. Federal Advisory Committee Act (Pub. L. 92-463, 86 Stat. 770) requires that public notice of these meetings be announced in the Federal Register.

DATES: Tuesday, April 29, 2003, 10 a.m. to 2 p.m.

ADDRESSES: Greenbrier Hotel, 300 West Main Street, White Sulphur Springs, West Virginia.

FOR FURTHER INFORMATION CONTACT: Estelle W. Hebron, U.S. Department of Energy, Office of Fossil Energy, Washington, DC 20585. Phone: 202/586-6837.

SUPPLEMENTARY INFORMATION: Purpose of the Committee: The purpose of the Coal Policy Committee of the National Coal Council is to provide advice, information, and recommendations to the Secretary of Energy on matters relating to coal and coal industry issues. The purpose of this meeting is to discuss and act on the energy efficiency and carbon sequestration study.

Tentative Agenda:

• Call to order by Frank Burke.

• Review and discuss the Council study on energy efficiency and carbon sequestration.

• Discussion of other business properly brought before the Coal Policy Committee.

• Public Comment—10 minute rule.

• Adjournment.

Public Participation: The meeting is open to the public. The Chairperson of the Committee will conduct the meeting to facilitate the orderly conduct of business. If you would like to file a written statement with the Committee, you may do so either before or after the meeting. If you would like to make oral statements regarding any of the items on the agenda, you should contact Estelle W. Hebron at the address or telephone number listed above. You make your request for an oral statement at least five business days prior to the meeting, and reasonable provisions will be made to include the presentation on the agenda. Public comment will follow the 10 minute rule.

Transcripts: The transcript will be available for public review and copying within 30 days at the Freedom of Information Public Reading Room, 1E-190, Forrestal Building, 1000 Independence Avenue, SW., Washington, DC, between 9 a.m. and 4 p.m., Monday through Friday, except Federal holidays.

Issued in Washington, DC on March 26, 2003.
Rachel M. Samuel,
Deputy Advisory Committee Management Officer.

[FR Doc. 03-7766 Filed 3-31-03; 8:45 am]

BILLING CODE 6450-01-P